DEPARTMENT OF JUSTICE

Notice of Lodging of Consent Decree Under the Resource Conservation and Recovery Act and the Clean Air Act

Pursuant to 28 CFR § 50.7, notice is hereby given that, on April 3, 2002, a proposed consent decree in United States v. Cooley, Inc., Civil Action No. 02-156, was lodged with the United States District Court for the District of Rhode Island.

In this action the United States sought civil penalties and injunctive relief with respect to violations of the Resource Conservation and Recovery Act (“RCRA”), 42 U.S.C. 6901 et seq., and the Clean Air Act (“CAA”), 42 U.S.C. 7401 et seq., at the facility operated by Cooley, Inc. (“Cooley”) in Pawtucket, Rhode Island. The complaint alleges that Cooley violated a number of RCRA requirements including, inter alia, the storage of hazardous waste without a permit, the failure to keep containers of hazardous waste on good condition, the failure to conduct weekly inspections, the failure to provide proper training of employees, and the failure to properly label hazardous waste containers. The complaint also alleges that Cooley violated the CAA by making certain modifications to its Pawtucket facility without obtaining a permit and by failing to comply with certain recordkeeping requirements relating to its usage of volatile organic compounds. Under the terms of the consent decree, Cooley has agreed to comply with the applicable provisions of RCRA and the CAA, to pay a penalty of $325,000, and to implement a Supplemental Environmental Project (“SEP”) involving a project whereby waste plastics will be used to produce flooring material.

The Department of Justice will receive for a period of thirty (30) days from the date of this publication comments relating to the consent decree. Comments should be addressed to Donald G. Frankel, Trial Attorney, Department of Justice, One Gateway Center, Suite 616, Newton, Massachusetts 02458 and should refer to United States v. Cooley, Inc., D.J. Ref. 90-7-1-06423.

The consent decree may be examined at the Office of the United States Attorney, Westminister Square Building, 10 Dorrance Street, Providence, Rhode Island 02903 (contact Michael Iannotti at 401-528-5477), and at U.S. EPA-New England, 1 Congress Street, Suite 1100, Boston, Massachusetts 02114-2023 (contact Hugh Martinez at 617-918-1867). A copy of the consent decree may also be obtained by mail from the Consent Decree Library, P.O. Box 7611, U.S. Department of Justice, Washington, DC 20044-7611 or by faxing a request to Tonia Fleetwood, Fax no. (202) 514-0097, phone confirmation number (202) 514-1547. In requesting a copy, please enclose a check in the amount of $15.25 (25 cents per page reproduction cost) payable to the U.S. Treasury.

Ronald G. Gluck,
Assistant Section Chief, Environmental Enforcement Section, Environment and Natural Resources Division.

[FR Doc. 02-9375 Filed 4-17-02; 8:45 am]

BILLING CODE 4410-15-M